NATIONAL TRANSPORTATION SAFETY BOARD

[Docket No.: NTSB-2021-0005]

Proposed Information Collection; Comment Request; [OMB Control No. 3147-0001]

AGENCY: National Transportation Safety Board (NTSB).

ACTION: 60-Day notice of information collection; request for comments.

SUMMARY: In accordance with the Paperwork Reduction Act (PRA) of 1995, the National Transportation Safety Board (NTSB) offers the public and Federal agencies the opportunity to comment regarding the NTSB's intent to submit an Information Collection Request (ICR) seeking reinstatement, with change, of a previously-approved information collection (IC) for which approval for Office of Management and Budget (OMB) Control No. 3147-0001 has expired. This 60-Day Notice informs the public and Federal agencies that they may submit comments directly to the NTSB regarding this IC.

DATES: Submit written comments regarding this proposed collection of information by July 6, 2021.

ADDRESSES: You may send comments, identified by Docket Number (No.) NTSB-2021-0005, by any of the following methods:

• Federal e-Rulemaking Portal: http://www.regulations.gov.

• Email: rulemaking@ntsb.gov.

• Fax: 202-314-6090.

• Mail/Hand Delivery/Courier: NTSB, Office of General Counsel, 490 L'Enfant Plaza East SW, Washington DC 20594.

Instructions: All submissions in response to this Notice must include Docket No. NTSB-2021-0005. All comments received will be posted without change to http://www.regulations.gov, including any personal information provided.

Docket: For access to the docket, including comments received, go to http://www.regulations.gov and search under Docket No. NTSB-2021-0005. For a copy of the proposed revised Form 6120.1, email rulemaking@ntsb.gov and include “NTSB-2021-0005” in the subject line.

FOR FURTHER INFORMATION CONTACT: Kathleen Silbaugh, General Counsel, (202) 314-6080, rulemaking@ntsb.gov.

SUPPLEMENTARY INFORMATION: The NTSB issues Form 6120.1: Pilot/Operator Aircraft Accident/Incident Report to a surviving pilot or operator involved in an aircraft accident or serious incident that the agency intends to investigate. The OMB control number (3147-0001) associated with this form has since expired. Because the agency wishes to continue using the form with revisions, the NTSB plans to submit an Information Collection Request (ICR) seeking reinstatement, with change, of a previously-approved collection for which approval has expired. Specifically, the NTSB is updating the instructions by revising the address for its Western Pacific Regional (WPR) office, updating which regional office one reports to for accidents occurring in New Mexico and Mississippi, and informing all pilots and operators that the information provided on the form is subject to public release; notably, the agency is also updating the form's certification statement to include that by signing the document, the pilot/operator consents to the public release of the information contained therein.

The NTSB is also requesting additional information in the following sections of the form: Flight Crewmember, Flight Itinerary Information, and Weather Information at the Accident/Incident Site. For the Flight Crewmember section, the agency will include “BasicMed” to the list of options in the medical certification section; a column for “Tailwheel” time in the flight matrix; and blank spaces to provide the number of flight crew and passengers. For the Flight Itinerary Information, the agency is adding “Certificate of Authorization” to the list of Type of Air Traffic Control Clearance/Service. As for the Weather Information section, the agency is listing “Electronic Flight Bag (EFB)—Application” as an option followed by a blank space for the pilot/operator to specify the name of the electronic application. Moreover, the NTSB is concurrently correcting typographical errors throughout the document and eliminating outdated references to “DUATS” and fuel readings of “100/130” and “115/145.”

Prior to submitting the ICR to the Office of Information and Regulatory Affairs, 5 CFR 1320.8(d)(1) requires agencies to provide a 60-day Notice in the Federal Register and otherwise consult with members of the public and affected agencies. Thus, through this Notice, the NTSB currently is soliciting public comments that include: (1) Whether the proposed collection is necessary for the NTSB to perform its mission; (2) the accuracy of the estimated burden; (3) ways for the NTSB to enhance the quality, usefulness, and clarity of the IC; and (4) ways to minimize burden without reducing the quality of the IC.

This IC is necessary because the NTSB is statutorily required to promulgate regulations governing the notification and reporting of civil aircraft accidents; to investigate, determine and report on the probable cause of each accident; and to make safety recommendations to prevent similar accidents from occurring in the future. 49 U.S.C. 1131, 1132. In coordination with the Federal Aviation Administration (FAA), the NTSB is also required to classify accident and safety data and publish such data on a periodic basis. 49 U.S.C. 1119. To fulfill these statutory obligations, the agency must obtain detailed information about the pilot, crew, aircraft, and other circumstances related to an accident or incident at the start of each NTSB investigation. This information allows the agency to: (1) Determine the appropriate course of action in an investigation; (2) make safety recommendations and facilitate safety improvements in the aviation industry; and (3) classify and publish accident and safety data.

Since the NTSB is the only Federal agency charged with investigating aircraft accidents and incidents, and has priority over all other agencies in this role, the NTSB will be the only agency distributing this accident and incident report form; thus, this NTSB form is not duplicative of any other IC. While under 49 U.S.C. 1132(c), the FAA participates in NTSB aircraft accident investigations and may oversee some investigative activities on behalf of the NTSB, the NTSB's priority over aircraft accident investigations ensures no duplicative ICs from pilots or operators.

Title of Collection: Pilot/Operator Aircraft Accident/Incident Report.

OMB Control Number: 3147-0001.

Form Number: NTSB 6120.1.

Type of Review: Reinstatement, with change, of a previously-approved collection for which approval has expired.

Affected Public: Individuals or households.

Total Estimated Annual Burden Hours: 1,400.

Estimated Average Burden Hours per Respondent: 1.

Frequency of Response: On occasion.

Total Estimated No. of Annual Responses: 1,400.

The Chairman of the National Transportation Safety Board, Robert L. Sumwalt III, having reviewed and approved this document, is delegating the authority to electronically sign this document to Brian Curtis, who is the Deputy Managing Director for Investigations, for purposes of publication in the Federal Register during the COVID-19 pandemic.

Brian Curtis,
Deputy Managing Director for Investigations.

[FR Doc. 2021-09382 Filed 5-3-21; 8:45 am]

BILLING CODE 7533-01-P